DEPARTMENT OF DEFENSE

GENERAL SERVICES ADMINISTRATION

NATIONAL AERONAUTICS AND SPACE ADMINISTRATION

48 CFR Chapter 1

[Docket No. FAR-2024-0051, Sequence No. 7]

Federal Acquisition Regulation; Federal Acquisition Circular 2025-02; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2025-02. A companion document, the Small Entity Compliance Guide (SECG), follows this FAC.

DATES: For effective dates see the separate documents, which follow.

FOR FURTHER INFORMATION CONTACT: The analyst whose name appears in the table below in relation to the FAR case. For information pertaining to status or publication schedules, contact the Regulatory Secretariat Division at 202-501-4755 or GSARegSec@gsa.gov.

Rules Listed in FAC 2025-02
Item | Subject | FAR case | Analyst
I | Training to Prevent Human Trafficking For Certain Air Carriers | 2019-017 | Jones.
II | Certification of Service-Disabled Veteran-Owned Small Businesses | 2022-009 | Moore.
III | Technical Amendments

ADDRESSES: The FAC, including the SECG, is available at https://www.regulations.gov.

SUPPLEMENTARY INFORMATION: Summaries for each FAR rule follow. For the actual revisions and/or amendments made by these FAR rules, refer to the specific item numbers and subjects set forth in the documents following these item summaries. FAC 2025-02 amends the FAR as follows:

Item I—Training To Prevent Human Trafficking For Certain Air Carriers (FAR Case 2019-017)

This final rule amends the FAR to implement section 111 of the Frederick Douglass Trafficking Victims Prevention and Protection Reauthorization Act of 2018 (Pub. L. 115-425), enacted January 8, 2019. Section 111 requires that domestic carriers who contract with the Federal Government to provide air transportation submit an annual report with certain information related to prevention of human trafficking to the Administrator of General Services, the Secretary of Transportation, the Secretary of Labor, the Administrator of the Transportation Security Administration, and the Commissioner of U.S. Customs and Border Protection. Section 111 does not apply to contracts awarded by the Department of Defense.

This rule creates a new contract clause at FAR 52.247-69, Reporting Requirement for U.S.-Flag Air Carriers Regarding Training to Prevent Human Trafficking, to implement the statutory reporting requirement. Contracting officers will include this clause in solicitations and contracts for the transportation by air of passengers. The reporting requirement applies to U.S.-flag air carriers, including small business air carriers. The final rule is not expected to have a significant economic impact on a substantial number of small entities within the meaning of the Regulatory Flexibility Act.

Item II—Certification of Service-Disabled Veteran-Owned Small Businesses (FAR Case 2022-009)

This FAR rule adopts, without change, an interim rule that amended the FAR to implement the Governmentwide certification requirement for service-disabled veteran-owned small business (SDVOSB) concerns seeking sole-source and set-aside awards under the SDVOSB Program. Effective January 1, 2024, an SDVOSB concern must have either been certified by the Small Business Administration (SBA), or have both submitted an application for certification to SBA on or before December 31, 2023, and represented that it is an SDVOSB in the System for Award Management (SAM), in order to be eligible for sole-source or set-aside awards under the SDVOSB Program. This rule required that an SDVOSB concern update its status in SAM no later than two days after the date of a final determination that the concern does not meet the requirements of the status the concern claims to hold. This rule also provided new SDVOSB protest and appeal procedures.

Item III—Technical Amendments

Administrative changes are made at FAR 13.302-5, 25.101, 36.603, 49.601-2, 52.204-2, 52.204-7, 52.204-8, 52.204-19, 52.212-5, 52.225-3, 52.225-4, and 52.225-18.

William F. Clark,
Director, Office of Government-wide Acquisition Policy, Office of Acquisition Policy, Office of Government-wide Policy.

Federal Acquisition Circular (FAC) 2025-02 is issued under the authority of the Secretary of Defense, the Administrator of General Services, and the Administrator of National Aeronautics and Space Administration.

Unless otherwise specified, all Federal Acquisition Regulation (FAR) and other directive material contained in FAC 2025-02 is effective December 16, 2024 except for Items I and III, which are effective January 3, 2025.

John M. Tenaglia,

Principal Director, Defense Pricing, Contracting, and Acquisition Policy, Department of Defense.

Jeffrey A. Koses,

Senior Procurement Executive/Deputy CAO, Office of Acquisition Policy, U.S. General Services Administration.

Karla Smith Jackson,

Assistant Administrator for Procurement, Senior Procurement Executive/Deputy CAO, National Aeronautics and Space Administration.

[FR Doc. 2024-29372 Filed 12-13-24; 8:45 am]

BILLING CODE 6820-EP-P